DEPARTMENT OF HOMELAND SECURITY

Coast Guard

[Docket No. USCG-2010-0032]

Houston/Galveston Navigation Safety Advisory Committee

AGENCY: Coast Guard, DHS.

ACTION: Notice of meeting.

SUMMARY: The Houston/Galveston Navigation Safety Advisory Committee (“HOGANSAC” or “the Committee”) and its working groups will meet in Houston, Texas to discuss waterway improvements, aids to navigation, area projects impacting safety on the Houston Ship Channel, and various other navigation safety matters in the Galveston Bay area. All meetings will be open to the public.

DATES: The Committee will meet on Tuesday, May 25, 2010 from 9 a.m. to 12 p.m. The Committee's working groups will meet on Tuesday, May 11, 2010 from 9 a.m. to 12 p.m. These meetings may close early if all business is finished. Written material and requests to make oral presentations should reach the Coast Guard on or before May 18, 2010. Requests to have a copy of your materials distributed to each member of the committee or working group should reach the Coast Guard on or before May 10, 2010. All comments and related material submitted after the meeting must be received by the Coast Guard on or before June 25, 2010.

ADDRESSES: The full Committee will meet at the Charles T. Doyle Convention Center, 2010 5th Avenue North, Texas City, TX 77590, (409) 643-5990. The working group meeting will be held at Western Gulf Maritime Association (WGMA), 1717 East Loop, Suite 200, Houston, Texas 77029, (713) 678-7655.

Send written material and requests to make oral presentations to Commander Michael Zidik, Assistant Designated Federal Officer (ADFO) of HOGANSAC, CG SEC Houston-Galveston, 9640 Clinton Drive, Houston, TX 77029. This notice and documents identified in the SUPPLEMENTARY INFORMATION section as being available in the docket may be viewed in our online docket, USCG-2010-0032, at http://www.regulations.gov.

FOR FURTHER INFORMATION CONTACT: If you have questions concerning the meeting, please call or e-mail Lieutenant Junior Grade Margaret Brown, Waterways Management Branch, Coast Guard; telephone 713-678-9001, e-mail Margaret.A.Brown@uscg.mil. If you have questions on viewing or submitting material to the docket, call Renee V. Wright, Program Manager, Docket Operations, telephone 202-366-9826.

SUPPLEMENTARY INFORMATION: Notice of these meetings is given pursuant to the Federal Advisory Committee Act, 5 U.S.C. App. (Pub. L. 92-463).

Agenda of the Meeting

Houston/Galveston Navigation Safety Advisory Committee (HOGANSAC). The tentative agenda is as follows:

(1) Opening Remarks by the Designated Federal Officer (CAPT Woodring) and Committee Chair (Mrs. Tava Foret).

(2) Approval of March 11, 2010 minutes.

(3) Old Business.

(a) Navigation Operations (NAVOPS) subcommittee report;

(b) Dredging subcommittee report;

(c) Technology subcommittee report;

(d) Waterways Safety and Utilization subcommittee report;

(e) Commercial Recovery Contingency (CRC) subcommittee report;

(f) HOGANSAC Outreach subcommittee report;

(g) Freeport working group report;

(h) Area Maritime Security Committee (AMSC) Liaison's report.

(4) New Business.

(a) Discussion on bid for hosting 2011 AMSC/HSC Conference in Houston.

(5) Announcements.

(a) Schedule Next Meetings.

Working Groups Meeting. The tentative agenda for the working groups meeting is as follows:

(1) Presentation by each working group of its accomplishments and plans for the future;

(2) Review and discuss the work completed by each working group;

(3) Put forth any action items for consideration at full committee meeting.

Procedural

Both meetings are open to the public. Please note that meetings may close early if all business is finished. At the Chair's discretion, members of the public may make oral presentations during the meetings. If you would like to make an oral presentation at the Committee meeting, please notify the ADFO no later than May 18, 2010. Written material for distribution at a meeting should reach the Coast Guard no later than May 10, 2010. If you would like a copy of your material distributed to each member of the Committee in advance of the meetings, please submit 19 copies to the Coast Guard no later than May 10, 2010.

Information on Service for Individuals With Disabilities

For information on facilities or services for individuals with disabilities or to request special assistance at the public meeting, contact Lieutenant Junior Grade Margaret Brown at the telephone number or e-mail address indicated under the FOR FURTHER INFORMATION CONTACT section of this notice.

Dated: April 14, 2010.
M.E. Woodring,
Captain, U.S. Coast Guard, Commander, Sector Houston-Galveston.

[FR Doc. 2010-10307 Filed 5-3-10; 8:45 am]

BILLING CODE 9110-04-P